DEPARTMENT OF THE TREASURY

Internal Revenue Service

Proposed Collection; Requesting Comments on Forms CT-1 and CT-1X

AGENCY: Internal Revenue Service (IRS), Treasury.

ACTION: Notice and request for comments.

SUMMARY: The Internal Revenue Service, as part of its continuing effort to reduce paperwork and respondent burden, invites the general public and other federal agencies to take this opportunity to comment on proposed and/or continuing information collections, as required by the Paperwork Reduction Act of 1995. The IRS is soliciting comments concerning Form CT-1, Employer's Annual Railroad Retirement Tax Return, and Form CT-1X, Adjusted Employer's Annual Railroad Retirement Tax Return or Claim for Refund.

DATES: Written comments should be received on or before March 15, 2022 to be assured of consideration.

ADDRESSES: Direct all written comments to Andres Garcia, Internal Revenue Service, Room 6526, 1111 Constitution Avenue NW, Washington, DC 20224. You must reference the information collection's title, form number, reporting or record-keeping requirement number, and OMB number in your comment.

FOR FURTHER INFORMATION CONTACT: Requests for additional information or copies of the form and instructions should be directed to Jon Callahan, (737) 800-7639, at Internal Revenue Service, Room 6526, 1111 Constitution Avenue NW, Washington, DC 20224, or through the internet at jon.r.callahan@irs.gov.

SUPPLEMENTARY INFORMATION: The IRS is currently seeking comments concerning the following information collection tools, reporting, and record-keeping requirements:

Title: Railroad Retirement Tax Act (Forms CT-1 and CT-1X).

OMB Number: 1545-0001.

Form Number: Forms CT-1 and CT-1X.

Abstract: Form CT-1 is used by railroad employers to report taxes imposed by the Railroad Retirement Tax Act (RRTA) and claim eligible employer tax credits. The IRS uses the information to ensure that the employer has paid the correct tax. Form CT-1X is used to correct previously filed Forms CT-1.

Current Actions: There are changes to the existing collection: The IRS has significantly revised the 2021 Forms CT-1 and CT-1X to allow for the reporting of new and extended employment tax credits allowed by the American Rescue Plan Act of 2021, Public Law 117-2, sections 9501, 9641, and 9651. The changes to the forms will result in an estimated burden increase of 11,534 hours.

Type of Review: Revision of a currently approved collection.

Affected Public: Businesses or other for-profit organizations, not-for-profit institutions, and state, local or tribal governments.

Estimated Number of Responses: 2,400.

Estimated Time per Respondent: 26 hours, 5 minutes.

Estimated Total Annual Burden Hours: 62,589.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: January 10, 2022.
Jon R. Callahan,
Tax Analyst.

[FR Doc. 2022-00644 Filed 1-13-22; 8:45 am]

BILLING CODE 4830-01-P